DEPARTMENT OF AGRICULTURE

Forest Service

Proposed New Fee Sites

AGENCY: USDA, Forest Service.

ACTION: Notice of proposed fee increase and new fee sites.

SUMMARY: The Bridger-Teton National Forest is proposing to add two campgrounds and one guard station as fee sites. The campgrounds are currently in use by the public but had improvements made in the past years that justify a standard amenity fee. The proposed rental cabin is not open to the public currently, but would provide a recreation opportunity that is not currently offered in the area. A review of visitor use data and fee collection information for existing fee campgrounds and rental cabins on the Forest demonstrate public need and demand for the variety of recreation opportunities these facilities provide.

DATES: Comments will be accepted through February 1, 2020. New fees would go into effect May 2020; if possible.

ADDRESSES: Cindy Stein, Forest Recreation Program Manager, P.O. Box 419, Pinedale, WY 82941, or email to cindy.stein@usda.gov with “BT Recreation Fee Proposal” as the subject line. Comments will be taken until February 1, 2020.

FOR FURTHER INFORMATION CONTACT: Cindy Stein, Forest Recreation Program Manager, (307) 367-5717. Information about proposed fee changes can also be found on the Bridger-Teton National Forest website: http://www.fs.usda.gov/btnf.

SUPPLEMENTARY INFORMATION: The Federal Recreation Lands Enhancement Act (Title VII, Pub. L. 108-447) directed the Secretary of Agriculture to publish a six month advance notice in the Federal Register whenever new recreation fee areas are established. A market analysis indicates that the proposed fees are both reasonable and acceptable for the type of recreation experience they provide.

The fees are only proposed at this time, and will be determined upon further analysis and public comment. The following campgrounds and guard stations are included in this proposal for new fees:

Site name | Ranger district | Current fee | Proposed fee
Middle Piney Lake Campground | Big Piney |  | $10.00
Willow Lake Campground | Pinedale |  | 10.00
Sagebrush Cowboy Cabin | Blackrock |  | 40.00

Improvements have been made at all sites in the last 5 years including: Water system updates, new vault toilets, bear-resistant food storage and trash receptacles, and new flooring, windows, stoves, refrigerators, furniture, and heaters at guard stations. The proposed fees will provide for the increased operational costs, and continued operation and maintenance of the campgrounds and guard stations on all Districts. Fees collected from these sites will also be used for enhancing the recreation experience at the sites.

Once public involvement is complete, these new fees will be reviewed by a Recreation Resource Advisory Committee prior to a final decision and implementation. People wishing to reserve these cabins would need to do so through the National Recreation Reservation Service, at www.recreation.gov or by calling 1-877-444-6777 when it becomes available.

Dated: December 6, 2019.
Mary E. Farnsworth,
Acting Associate Deputy Chief, National Forest System.

[FR Doc. 2020-01117 Filed 1-23-20; 8:45 am]

BILLING CODE 3411-15-P